DEPARTMENT OF TRANSPORTATION

Federal Aviation Administration

14 CFR Part 39

[Docket No. FAA-2024-1295; Project Identifier MCAI-2023-01124-R; Amendment 39-22744; AD 2024-09-02]

RIN 2120-AA64

Airworthiness Directives; Leonardo S.p.a. Helicopters

AGENCY: Federal Aviation Administration (FAA), DOT.

ACTION: Final rule; request for comments.

SUMMARY: The FAA is adopting a new airworthiness directive (AD) for all Leonardo S.p.a. Model AW169 helicopters. This AD was prompted by manufacturing defects in certain forward and aft float assemblies. This AD requires replacing certain aft float assemblies or, as an alternative, deactivating the emergency flotation system (EFS). This AD also prohibits installing certain forward and aft float assemblies. These actions are specified in a European Union Aviation Safety Agency (EASA) AD, which is incorporated by reference. The FAA is issuing this AD to address the unsafe condition on these products.

DATES: This AD becomes effective June 5, 2024.

The Director of the Federal Register approved the incorporation by reference of a certain publication listed in this AD as of June 5, 2024.

The FAA must receive comments on this AD by July 5, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-1295; or in person at Docket Operations between 9 a.m. and 5 p.m., Monday through Friday, except Federal holidays. The AD docket contains this final rule, any comments received, and other information. The address for Docket Operations is listed above.

Material Incorporated by Reference:

• For EASA material, contact EASA, Konrad-Adenauer-Ufer 3, 50668 Cologne, Germany; telephone +49 221 8999 000; email ADs@easa.europa.eu; internet easa.europa.eu. You may find the EASA material on the EASA website at ad.easa.europa.eu.

• You may view this material at the FAA, Office of the Regional Counsel, Southwest Region, 10101 Hillwood Pkwy., Room 6N-321, Fort Worth, TX 76177. For information on the availability of this material at the FAA, call (817) 222-5110. It is also available at regulations.gov under Docket No. FAA-2024-1295.

Other Related Service Information: For Leonardo Helicopters service information identified in this final rule, contact Leonardo S.p.A., Emanuele Bufano, Head of Airworthiness, Viale G. Agusta 520, 21017 C. Costa di Samarate (Va) Italy; phone (+39) 0331-225074; fax (+39) 0331-229046; or at customerportal.leonardocompany.com/en-US/. For Dart Aerospace service information identified in this final rule, contact Dart Aerospace, LTD., 1270 Aberdeen St., Hawkesbury, ON, K6A 1K7, Canada; phone: 1-613-632-5200; Fax: 1-613-632-5246; or at dartaero.com. You may also view this service information at the FAA contact information under Material Incorporated by Reference above.

FOR FURTHER INFORMATION CONTACT: Kyri Zaroyiannis, Aviation Safety Engineer, FAA, 1600 Stewart Avenue, Suite 410, Westbury, NY 11590; phone: (847) 294-7836; email kyri.zaroyiannis@faa.gov.

SUPPLEMENTARY INFORMATION:

Comments Invited

The FAA invites you to send any written data, views, or arguments about this final rule. Send your comments to an address listed under ADDRESSES. Include “Docket No. FAA-2024-1295; Project Identifier MCAI-2023-01124-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Kyri Zaroyiannis, Aviation Safety Engineer, FAA, 1600 Stewart Avenue, Suite 410, Westbury, NY 11590; phone: (847) 294-7836; email kyri.zaroyiannis@faa.gov. Any commentary that the FAA receives that is not specifically designated as CBI will be placed in the public docket for this rulemaking.

Background

EASA, which is the Technical Agent for the Member States of the European Union, has issued EASA Emergency AD 2023-0188-E, dated October 30, 2023 (EASA AD 2023-0188-E), to correct an unsafe condition for Leonardo S.p.A. Model AW169 helicopters.

This AD was prompted by manufacturing defects in certain DART Aerospace forward float and aft float with life raft assemblies. According to Dart Aerospace, non-conforming girt bars were used in some forward and aft float assemblies, and the belt loops in some aft float assemblies were incorrectly positioned.

The FAA is issuing this AD to address non-conforming float assemblies. The unsafe condition, if not addressed, could result in failure of a float assembly during an emergency landing on water and subsequently prevent a timely egress from the helicopter, which could result in injury to helicopter occupants. See EASA AD 2023-0188-E for additional background information.

Related Service Information Under 1 CFR Part 51

EASA AD 2023-0188-E requires removing each affected float assembly and sending it to Leonardo and replacing it with a serviceable float assembly. As an alternative, EASA AD 2023-0188-E allows deactivating the EFS by locking the float auto breaker in EDCU [enhanced display control unit] 1 or 2; pulling, locking, and tagging the breaker from the overhead circuit breaker panel; and installing a decal in clear view of the pilot. EASA AD 2023-0188-E also prohibits installing an affected float assembly on a helicopter.

This material is reasonably available because the interested parties have access to it through their normal course of business or by the means identified in the ADDRESSES section.

Other Related Service Information

The FAA reviewed Leonardo Helicopters Alert Service Bulletin No. 169-257, dated October 30, 2023 (ASB 169-257). This service information specifies procedures for replacing affected forward float and aft float with life raft assemblies and deactivating the EFS.

The FAA also reviewed Dart Aerospace Service Bulletin Document Number SB23-2, dated October 20, 2023, which is included as Annex A of ASB 169-257. This service information specifies procedures for Dart rework and reidentification.

FAA's Determination

These helicopters have been approved by the aviation authority of the European Union and are approved for operation in the United States. Pursuant to the FAA's bilateral agreement with the European Union, EASA, its technical representative, has notified the FAA of the unsafe condition described in its emergency AD. The FAA is issuing this AD after evaluating all pertinent information and determining that the unsafe condition exists and is likely to exist or develop on other helicopters of the same type design.

AD Requirements

This AD requires accomplishing the actions specified in EASA AD 2023-0188-E, described previously, as incorporated by reference, except for any differences identified as exceptions in the regulatory text of this AD and except as discussed under “Differences Between this AD and the EASA AD.”

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, EASA AD 2023-0188-E is incorporated by reference in this FAA final rule. This AD, therefore, requires compliance with EASA AD 2023-0188-E in its entirety through that incorporation, except for any differences identified as exceptions in the regulatory text of this AD. Using common terms that are the same as the heading of a particular section in EASA AD 2023-0188-E does not mean that operators need comply only with that section. For example, where the AD requirement refers to “all required actions and compliance times,” compliance with this AD requirement is not limited to the section titled “Required Action(s) and Compliance Time(s)” in EASA AD 2023-0188-E. Service information referenced in EASA AD 2023-0188-E for compliance will be available at regulations.gov under Docket No. FAA-2024-1295 after this final rule is published.

Differences Between This AD and the EASA AD

EASA AD 2023-0188-E requires replacing certain forward and certain aft float with life raft assemblies within 24 months or during the next accomplishment of maintenance task 95-24 or 95-25, whereas this AD does not. The FAA plans to publish a notice of proposed rulemaking to give the public an opportunity to comment on those long-term requirements.

Interim Action

The FAA considers that this AD is an interim action. A longer compliance time to replace certain forward and certain aft float with life raft assemblies is allowable. Accordingly, the FAA plans to publish a separate notice of proposed rulemaking to address the unsafe condition on these float assemblies.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because manufacturing defects may lead to failure of affected float assemblies. Failure of a float assembly could cause the helicopter to roll to one side but remain buoyant or cause the helicopter to capsize underwater. Because of the high utilization rate of helicopters with these float assemblies installed, and because these helicopters conduct operations over water, the FAA determined that certain float assemblies must be replaced within 25 hours time-in-service, depending on the defect type. This compliance time is shorter than the time necessary for the public to comment and for publication of the final rule. Accordingly, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects up to 15 helicopters of U.S. Registry. Labor rates are estimated at $85 per work-hour. Based on these numbers, the FAA estimates the following costs to comply with this AD.

Replacing an affected float assembly takes approximately 2 work-hours and parts cost approximately $113,491 for an aft float with life raft assembly, for an estimated cost of up to $227,322 per helicopter (up to two aft float with life raft assemblies) and $3,409,830 for the U.S. fleet.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-09-02 Leonardo S.p.a.: Amendment 39-22744; Docket No. FAA-2024-1295; Project Identifier MCAI-2023-01124-R.

(a) Effective Date

This airworthiness directive (AD) is effective June 5, 2024.

(b) Affected ADs

None.

(c) Applicability

This AD applies to Leonardo S.p.a. Model AW169 helicopters, certificated in any category.

(d) Subject

Joint Aircraft System Component (JASC) Codes: 2560, Emergency Equipment; and 2564, Life Raft.

(e) Unsafe Condition

This AD was prompted by manufacturing defects in certain forward and aft float assemblies. The FAA is issuing this AD to address non-conforming float assemblies. The unsafe condition, if not addressed, could result in failure of a float assembly during an emergency landing on water and subsequently prevent a timely egress from the helicopter, which could result in injury to helicopter occupants.

(f) Compliance

Comply with this AD within the compliance times specified, unless already done.

(g) Requirements

Except as specified in paragraphs (h) and (i) of this AD: Comply with all required actions and compliance times specified in, and in accordance with, European Union Aviation Safety Agency (EASA) Emergency AD 2023-0188-E, dated October 30, 2023 (EASA AD 2023-0188-E).

(h) Exceptions to EASA AD 2023-0188-E

(1) Where EASA AD 2023-0188-E requires compliance in terms of flight hours, this AD requires using hours time-in-service.

(2) Where EASA AD 2023-0188-E refers to its effective date, this AD requires using the effective date of this AD.

(3) This AD does not require helicopters with a Group 2 affected part installed to comply with paragraph (1) of EASA AD 2023-0188-E.

(4) Where the service information referenced in paragraph (1) of EASA AD 2023-0188-E specifies sending a removed float to Leonardo, this AD does not require that action.

(5) This AD does not adopt the “Remarks” section of EASA AD 2023-0188-E.

(i) No Reporting Requirement

Although the service information referenced in EASA AD 2023-0188-E specifies to submit certain information to the manufacturer, this AD does not require that action.

(j) Special Flight Permit

A one-time special flight permit may be issued in accordance with 14 CFR 21.197 and 21.199 to fly the aircraft to a location where the actions required by this AD can be accomplished. This flight must be a non-revenue flight and limited to only essential flight crew.

(k) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (l) of this AD. Information may be emailed to: 9-AVS-AIR-730-AMOC@faa.gov.

(2) Before using any approved AMOC, notify your appropriate principal inspector, or lacking a principal inspector, the manager of the local flight standards district office/certificate holding district office.

(l) Related Information

For more information about this AD, contact Kyri Zaroyiannis, Aviation Safety Engineer, FAA, 1600 Stewart Avenue, Suite 410, Westbury, NY 11590; phone: (847) 294-7836; email kyri.zaroyiannis@faa.gov.

(m) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) Emergency AD 2023-0188-E, dated October 30, 2023.

(ii) [Reserved]

(3) For EASA Emergency AD 2023-0188-E, contact EASA, Konrad-Adenauer-Ufer 3, 50668 Cologne, Germany; telephone +49 221 8999 000; email ADs@easa.europa.eu; internet easa.europa.eu. You may find the EASA material on the EASA website at ad.easa.europa.eu.

(4) You may view this material at the FAA, Office of the Regional Counsel, Southwest Region, 10101 Hillwood Pkwy., Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on May 10, 2024.
James D. Foltz,
Deputy Director, Compliance & Airworthiness Division, Aircraft Certification Service.

[FR Doc. 2024-11138 Filed 5-16-24; 4:15 pm]

BILLING CODE 4910-13-P